GENERAL SERVICES ADMINISTRATION

[Notice-MV-2012-01; Docket 2012-0002; Sequence 3]

Public Availability of General Services Administration FY 2011 Service Contract Inventory

AGENCY: Office of Acquisition Policy (MV); General Services Administration (GSA).

ACTION: Notice of public availability of FY 2011 Service Contract Inventories.

SUMMARY: GSA is announcing the availability of the FY 2011 Service Contract Inventory.

DATES: Effective date: February 2, 2012.

FOR FURTHER INFORMATION CONTACT: Questions regarding the service contract inventory should be directed to Mr. Paul F. Boyle in the Office of Acquisition Policy at (202) 501-0324 or via email to paul.boyle@gsa.gov.

SUPPLEMENTARY INFORMATION: In accordance with Section 743 of Division C of Fiscal Year (FY) 2010 Consolidated Appropriations Act Public Law 111-117, GSA is publishing this notice to advise the public of the availability of the FY 2011 Service Contract Inventory. This inventory provides information on service contract actions over $25,000 that were made in FY 2011. The information is organized by function to show how contracted resources are distributed throughout the agency. The inventory has been developed in accordance with guidance issued on December 19, 2011 by the Office of Management and Budget's Office of Federal Procurement Policy (OFPP). OFPP's guidance is available on the http://www.whitehouse.gov/omb/. The GSA has posted its inventory and summaries of the inventory on the GSA Web site at the following link: http://www.gsa.gov/gsasci.

Dated: January 27, 2012.
Joseph A. Neurauter,
Deputy Chief Acquisition Officer, Senior Procurement Executive, Office of Acquisition Policy.

[FR Doc. 2012-2354 Filed 2-1-12; 8:45 am]

BILLING CODE 6820-61-P